DEPARTMENT OF TRANSPORTATION

Federal Aviation Administration

14 CFR Part 39

[Docket No. FAA-2011-1412; Directorate Identifier 2011-NM-158-AD; Amendment 39-17088; AD 2012-12-08]

RIN 2120-AA64

Airworthiness Directives; The Boeing Company Airplanes

Correction

In rule document 2012-14544 appearing on pages 37781-37783 in the issue of Monday, June 25, 2012 make the following correction:

§ 39.13 [Corrected]

On page 37783, in the first column, in the tenth full paragraph, under the heading “(c) Applicability”, the second line should read “Model 777-200 and -300 series airplanes;”.

[FR Doc. C1-2012-14544 Filed 7-19-12; 8:45 am]

BILLING CODE 1505-01-D